DEPARTMENT OF HEALTH AND HUMAN SERVICES

National Institutes of Health

Proposed Collection; Comment Request; National Institute of Diabetes and Digestive and Kidney Diseases Information Clearinghouses Customer Satisfaction Survey

SUMMARY: In compliance with the requirement of Section 3506(c)(2)(A) of the Paperwork Reduction Act of 1995 to provide opportunity for public comment on proposed data collection projects, the National Institute of Diabetes and Digestive and Kidney Diseases (NIDDK), the National Institutes of Health (NIH), will publish periodic summaries of proposed projects to be submitted to the Office of Management (OMB) for review and approval.

Proposed Collection

Title: NIDDK Information Clearinghouses Customer Satisfaction Survey. Type of Information Request: EXTENSION. The OMB control number 0925-0480 expires July 31, 2003. Need and Use of Information Collection: NIDDK is conducting a survey to evaluate the efficiency and effectiveness of services provided by NIDDK's three information clearinghouses: National Diabetes Information Clearinghouse, National Digestive Diseases Information Clearinghouse, National Kidney and Urologic Diseases Information Clearinghouse. The survey responds to Executive Order 12862, “Setting Customer Service Standards,” which requires agencies and departments to identify and survey their “customers to determine the kind and quality of service they want and their level of satisfaction with existing service.” Frequency of Response: On occasion. Affection Public: Individuals or households; clinics or doctor's offices. Type of Respondents: Physicians, nurses, patients, family.

Type of respondents | Number of respondents | Frequency of response | Estimated average response time | Estimated annual burden hours
Patients/Family | 3,600 | 1.00 | 0.167 | 600
Phys. Asst. | 7,200 | 1.00 | 0.167 | 1,200
Physicians | 1,200 | 1.00 | 0.167 | 200
Totals | 12,000 |  |  | 2,000

The annual reporting burden is as follows: Estimated Number of Respondents: 12,000; Estimated number of Responses per Respondent: 1; Estimated Average Burden Hours Per Response: 0.167; and Estimated Total Annual Burden Hours Requested: 2,000. The annualized cost to respondents is estimated at $39,000. There are no Capital Costs to report. There are no Operating or Maintenance Costs to report.

Request for Comments

Written comments and/or suggestions from the public and affected agencies are invited on one or more of the following points: (1) Whether the proposed collection of information is necessary for the proper performance of the function of the of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection reports and instrument, contact Kathy Kranzfelder, Project Officer, NIDDK Information Clearinghouses, NIH, Building 31, Room 9A04, MSC2560, Bethesda, MD 20852. You may also submit comment and data by electronic mail (e-mail) at kranzfeldk@hq.niddk.nih.gov.

Comments Due Date: Comments regarding this information are best assured of having their full effect if received within 60 days following the date of this notice.

Dated: April 24, 2003.
Barbara Merchant,
Executive Officer, NIDDK.

[FR Doc. 03-10598 Filed 4-29-03; 8:45 am]

BILLING CODE 4140-01-M